DEPARTMENT OF THE INTERIOR

Bureau of Land Management

[LLNVS03000 L51010000.ER0000 LVRWF09 F8770 241A; 10-08807; MO#4500015810; TAS:14X5017]

Notice of Availability of Record of Decision for the NextLight Renewable Power, LLC, Silver State Solar Project Environmental Impact Statement

AGENCY: Bureau of Land Management, Interior.

ACTION: Notice of availability.

SUMMARY: The Bureau of Land Management (BLM) announces the availability of the Record of Decision (ROD) for the NextLight Renewable Power, LLC, Silver State Solar Project Environmental Impact Statement (EIS). The Department of the Interior Secretary signed the ROD on October 12, 2010, which constitutes the final decision of the Department.

ADDRESSES: Copies of the ROD are available upon request from the BLM Southern Nevada District Office, 4701 N. Torrey Pines Drive, Las Vegas, Nevada 89130, or at the following Web site: http://www.blm.gov/nv/st/en/fo/lvfo.html. Copies of the ROD are also available for public inspection at the BLM Southern Nevada District Office and the BLM Nevada State Office, 1340 Financial Blvd., Reno, Nevada.

FOR FURTHER INFORMATION CONTACT: Gregory Helseth, Renewable Energy Project Manager, phone: (702) 515-5173; address: BLM Southern Nevada District Office, 4701 N. Torrey Pines Drive, Las Vegas, Nevada 89130; e-mail: Gregory_Helseth@blm.gov.

SUPPLEMENTARY INFORMATION: The applicant, Nextlight Renewable Power, LLC, requested a right-of-way (ROW) authorization to construct, operate, maintain and decommission a 400-megawatt (MW) solar photovoltaic (PV) power plant and facilities. The Notice of Availability (NOA) for the Draft EIS analyzing impacts of the project and alternatives was released for public comment on April 16, 2010 (75 FR 19990). Four hundred eighty one comments were received on the Draft EIS. The comments were incorporated, where appropriate, to clarify the analysis presented in the Final EIS. The Environmental Protection Agency published the NOA for the Final EIS in the Federal Register on Friday, September 10, 2010 (75 FR 55326). The Final EIS analyzes 3 alternatives: A No Action Alternative, the Proposed Action, and a Modified Site Layout Alternative. These alternatives were shaped in part by comments received from the public and internal BLM review.

Alternative 1—No Action Alternative. Under this alternative, the BLM would deny a ROW for construction, operation, maintenance, and decommission of a 400-MW solar photovoltaic power plant on public lands administered by the BLM.

Alternative 2—Proposed Action. The Proposed Action Alternative is the construction, operation, maintenance and decommission of a solar facility utilizing passive PV technology. The project facilities would be constructed in 3 separate phases totaling 400-MW with a total surface disturbance of 2,967 acres. Phase 1 consists of a 60-MW direct current (50-MW alternating current) facility and is independent of the facilities identified in Phase 2 and Phase 3, which are inter-dependant facilities. Each facility component would be constructed as power purchase agreements and transmission infrastructure is in place and available to bring generated power to the market. Drainage controls would consist of a series of earthen drainage control berms that would contain surface runoff flows to existing primary drainages (storm water flow corridors) across the site.

Alternative 3—Modified Site Layout Alternative. The Modified Site Layout Alternative is similar to the Proposed Action in development sequence and facilities, but contains additional drainage control structures to manage storm water run-off. Total surface disturbance for this alternative is 2,748 acres.

The ROD approves only the Phase 1 portion of Alternative 2, the Proposed Action. Phase 2 and Phase 3 of the Proposed Action are not authorized in the ROD and may be considered in the future when the necessary electric transmission upgrades are proposed. At that time, the BLM will prepare any necessary additional environmental review.

Authority: 40 CFR 1506.6 and 1506.10.

Robert V. Abbey,
Director, Bureau of Land Management.

[FR Doc. 2010-26264 Filed 10-18-10; 8:45 am]

BILLING CODE 4310-HC-P